FEDERAL COMMUNICATIONS COMMISSION

47 CFR Part 80

[DA 04-3408]

Use of Frequency 156.575 MHz for Port Operations Communications in Puget Sound

AGENCY: Federal Communications Commission.

ACTION: Final rule.

SUMMARY: In this document the Commission permits the use of marine VHF channel 71 (156.575 MHz) for the use of intership port operations communications in Puget Sound, the Straits of Juan de Fuca, and their approaches. This was in response to a Coast Guard request to the Commission recommending that VHF marine Channel 71 be authorized for use by the Puget Sound Pilots for intership port operations communications. This action will allow more efficient management of vessel traffic in the area, thereby increasing navigational safety and protecting the marine environment in this busy port.

DATES: Effective January 24, 2005.

FOR FURTHER INFORMATION CONTACT: James Shaffer, James.Shaffer@FCC.gov, Public Safety and Critical Infrastructure Division, Wireless Telecommunications Bureau, (202) 418-0687, or TTY (202) 418-7233.

SUPPLEMENTARY INFORMATION: This is a summary of the Commission's Order, DA 04-3408, adopted on October 26, 2004, and released on October 28, 2004. The full text of this document is available for inspection and copying during normal business hours in the FCC Reference Center, 445 12th Street, SW., Washington, DC 20554. The complete text may be purchased from the Commission's copy contractor, Best Copy and Printing, Inc., 445 12th Street, SW., Room CY-B402, Washington, DC 20554. The full text may also be downloaded at: www.fcc.gov. Alternative formats are available to persons with disabilities by contacting Brian Millin at (202) 418-7426 or TTY (202) 418-7365 or at bmillin@fcc.gov.

1. The Order amends § 80.373(f) of the Commission's rules to make VHF marine Channel 71 (156.575 MHz) available for intership port operations communications in Puget Sound, the Straits of Juan de Fuca, and the approaches thereto. This amendment will allow the vessel traffic in Puget Sound to be managed more efficiently and will protect the marine environment by preventing vessel collisions and groundings.

2. In 2000, the Commission amended § 0.331 of its rules to delegate authority to the Wireless Telecommunications Bureau (Bureau) to designate, by footnote to the frequency table in § 80.373(f), frequencies available for intership port operations communications in defined port areas. In the Report and Order, WT Docket No. 99-332, 15 FCC Rcd 11302 (2000), the Commission indicated that it was authorizing the Bureau to act on requests from the United States Coast Guard (Coast Guard) to make frequencies available for intership communications related to port operations in order to alleviate communications congestion related to such port operations.

3. On March 12, 2004, the Coast Guard submitted a request to the Bureau's Public Safety and Critical Infrastructure Division recommending that VHF marine Channel 71 be authorized for use by the Puget Sound Pilots for intership port operations communications at a normal power of one watt (exceptionally ten watts) in Puget Sound, the Straits of Juan de Fuca, and the approaches thereto Enclosed was a letter from the Puget Sound Pilots asking the Coast Guard to request that the Commission designate VHF marine Channel 71 as a port operations channel in the area under the jurisdiction of the Captain of the Port Puget Sound, with its use limited to intership communications with pilots regarding the movement and docking of ships at a normal power of one watt. The Coast Guard also enclosed letters from the North Pacific Marine Radio Council (NPMRC), the Puget Sound Harbor Safety and Security Committee (PSHSSC), the Recreational Boating Association of Washington (RBAW), and the Captain of the Port Puget Sound, all concurring with the request.

4. We agree with the Coast Guard that the proposed designation will enhance maritime safety in this busy waterway. In this type of environment, harbor pilots rely upon clear and effective radio communications with tugs to help ensure the safe ingress and egress of large vessels. The parties assert that there is a critical need for an additional VHF channel for communications between large commercial vessels, tankers and other vessels carrying hazardous cargoes, and pilots and tugs in the Vessel Traffic Service Puget Sound (VTS Puget Sound). They note that the only frequency dedicated to intership communications related to port operations, VHF marine Channel 77 (156.875 MHz), is frequently congested. Congestion is intensified by the Canadian use of this channel for ship movement and docking at Delta Port, British Columbia, near the northern border of VTS Puget Sound.

5. The parties submit that VHF marine Channel 71, which currently is designated for noncommercial intership and ship-to-coast use, is a good candidate for a port operations channel because it carries very little recreational traffic, even during the summer months. RBAW agrees that recreational vessels have sufficient other channels to meet their VHF communication needs.

6. Based on the foregoing, we hereby amend the frequency table in § 80.373(f) of the Commission's rules to make VHF marine Channel 71 available for intership port operations communications in Puget Sound, the Straits of Juan de Fuca, and the approaches thereto. The normal output power must not exceed one watt, and the maximum output power must not exceed ten watts. This action will allow more efficient management of vessel traffic in the area, thereby increasing navigational safety and protecting the marine environment in this busy port.

7. We will permit private coast stations currently authorized to operate on VHF marine Channel 71 within VTS Puget Soundto continue operation until the end of their current license term on a non-interference basis. NPMRC has contacted the owners of these stations, and they have agreed to change to another appropriate frequency. Bureau staff will assist affected licensees in finding suitable alternative channels. No fee will be charged for affected stations that request an alternative channel before their next license renewals.

8. Finally, Puget Sound Pilots also request that VHF marine Channel 76 (156.825 MHz), which recently was designated for port operations communications, be limited to intership communications with pilots regarding the movement and docking of ships. The Coast Guard, however, did not support this request. We agree with the Coast Guard and do not believe that it is necessary to so limit the use of Channel 76. We believe that in redesignating Channels 75 (156.775 MHz) and 76, the Commission (which acted after Puget Sound Pilots submitted their request to the Coast Guard) addressed the needs for additional spectrum for navigation-related port operation communications. Therefore, we will not amend our rules to limit such communications.

Report to Congress

9. The Commission will send a copy of this Order in a report to be sent to Congress and the General Accounting Office pursuant to the Congressional Review Act, see 5 U.S.C. 801(a)(1)(A).

Ordering Clause

10. Accordingly, it is ordered, that pursuant to the authority contained in sections 4(i) and 303(r) of the Communications Act of 1934, as amended, 47 U.S.C. 154(i), 303(r), and § 0.331 of the Commission's rules, 47 CFR § 0.331, part 80 of the Commission's rules is amended as set forth in Appendix A, effective January 24, 2005.

List of Subjects in 47 CFR Part 80

Communications equipment, Radio.

Federal Communications Commission
Ramona Melson,
Chief of Staff, Public Safety and Critical Infrastructure Division.

Final Rule

For the reasons discussed in the preamble, the Federal Communications Commission amends 47 CFR part 80 as follows:

PART 80—STATIONS IN THE MARITIME SERVICES

1. The authority citation for part 80 continues to read as follows:

Authority: Sections 4, 303, 307(e), 309 and 322, 48 Stat. 1066, 1082, as amended; 47 U.S.C. 154, 303, 307(e), 309 and 322 unless otherwise noted. Interpret or apply 48 Stat. 1064-1068, 1081-1105, as amended; 47 U.S.C. 151-155, 301-609; 3 UST 3450, 3 UST 4726, 12 UST 2377.

2. In § 80.373, the noncommercial table of paragraph (f) is amended by revising the entry for “71” and by adding footnote 19 to read as follows:

§ 80.373 Private communications frequencies.

* * * * *

(f) * * *

Frequencies in the 156-162 MHz band: Carrier frequency (MHz) | Frequencies in the 156-162 MHz band: Channel designator: Ship transmit | Frequencies in the 156-162 MHz band: Channel designator: Coast transmit | Frequencies in the 156-162 MHz band: Points of communication (Intership and between coast and ship unless otherwise indicated)
Noncommercial
* * * * *
71¹⁹ | 156.575 | 156.575
* * * * *
¹⁹ 156.575 MHz is available for port operations communications use only within the U.S. Coast Guard designated VTS radio protection area of Seattle (Puget Sound) described in § 80.383. Normal output power must not exceed 1 watt. Maximum output power must not exceed 10 watts.

* * * * *

[FR Doc. 04-28028 Filed 12-22-04; 8:45 am]

BILLING CODE 6712-01-P